SMALL BUSINESS ADMINISTRATION

[Disaster Declaration # 10927 and # 10928]

Oklahoma Disaster Number OK-00012

AGENCY: Small Business Administration.

ACTION: Amendment 1.

SUMMARY: This is an amendment of the Presidential declaration of a major disaster for the State of Oklahoma (FEMA-1712-DR), dated 07/07/2007.

Incident: Severe Storms, flooding, and tornadoes.

Incident Period: 06/10/2007 and continuing.

Effective Date: 07/13/2007.

Physical Loan Application Deadline Date: 09/05/2007.

EIDL Loan Application Deadline Date: 04/07/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Oklahoma, dated 07/07/2007 is hereby amended to include the following areas as adversely affected by the disaster:

Primary Counties: Comanche, Nowata, Pottawatomie.

Contiguous Counties:

Oklahoma: Caddo, Cleveland, Cotton, Grady, Kiowa, Lincoln, Mcclain, Okfuskee, Oklahoma, Pontotoc, Seminole, Stephens, Tillman.

Kansas: Labette.

All other information in the original declaration remains unchanged.

(Catalog of Federal Domestic Assistance Numbers 59002 and 59008)

Herbert L. Mitchell,
Associate Administrator for Disaster Assistance.

[FR Doc. E7-14119 Filed 7-20-07; 8:45 am]

BILLING CODE 8025-01-P